DEPARTMENT OF JUSTICE

Drug Enforcement Administration

William Peterson, M.D.; Revocation of Registration

On October 31, 2000, the Deputy Assistant Administrator, Office of Diversion Control, Drug Enforcement Administration (DEA), issued an Order to show Cause (OTSC) by certified mail to William Peterson, M.D., (Respondent) notifying him of an opportunity to show cause as to why the DEA should not revoke his DEA Certificate of Registration AP1632810, pursuant to 21 U.S.C. 824(a)(3), and deny any pending applications for renewal of this registration, pursuant to 21 U.S.C. 824(a)(4) and 823(f), for the reasons that Respondent's license to practice medicine in the jurisdiction in which Respondent practices, North Carolina, was suspended by the North Carolina Medical Board (Board). The Order to Show Cause further alleged that the Board made a finding that, on numerous occasions, the Respondent prescribed controlled substances to individuals for no legitimate medical reason.

By letter filed November 16, 2000, Respondent, pro se, requested a hearing in this matter.

On November 22, 2000, Administrative Law Judge Gail A. Randall issued an order for Prehearing Statements. Judge Randall also mailed a letter to Respondent, informing him of his right to representation at his own expense, and enclosed therein a copy of the regulation explaining that right, 21 CFR 1316.50 (2000). On December 13, 2000, the Government filed a motion seeking summary disposition, arguing that Respondent's license to practice medicine, and therefore, to handle controlled substances in the jurisdiction of his DEA registration, was suspended. Since the Government has not received any information that the suspension has been lifted, the Government asserts that the Respondent's registration cannot be maintained.

The Government attached to its motion a sworn Certificate of Registration Status, signed by the Chief of the Registration Unit of the DEA and certifying the Certificate's authenticity; a copy of Respondent's DEA Certificate of Registration, AP1632810, currently assigned to the Respondent in North Carolina, with an expiration date of March 31, 2002; and a Notice of Charges and a copy of an Order of Summary Suspension of License, both of which are signed by the President of the Board and dated August 2, 1999.

By an Order dated December 13, 2000, Judge Randall stayed the proceedings pending the resolution of the Government's motion, and she allowed the Respondent until January 3, 2000, to respond to the Government's motion. No response has been received as of this date.

The Administrator has considered the record in its entirety, and pursuant to 21 CFR 1316.67, hereby issues his final order based upon findings of fact and conclusions of law as hereinafter set forth. The Administrator adopts in full the Opinion and Recommended Decision of the Administrative Law Judge.

The DEA does not have the statutory authority pursuant to the Controlled Substances Act to issue or to maintain a registration if the applicant or registrant is without state authority to handle controlled substances in the state in which he or she practices. See 21 U.S.C. §§ 802(21), 823(f), and 824(a)(3). This prerequisite has been consistently upheld in prior DEA cases. See Graham Travers Schuler, M.D., 65 FR 50,570 (2000); Romeo J. Perez, M.D., 62 FR 16193 (1997); Demetris A. Green, M.D., 61 FR 60728 (1996); Dominick A. Ricci, M.D., 58 FR 51104 (1993).

In the instant case, the Administrator finds the Government has presented evidence demonstrating that the Respondent is not authorized to practice medicine in North Carolina, and therefore, the Administrator infers that Respondent is also not authorized to handle controlled substances in North Carolina, where he conducts his business, according to the address listed on his DEA Certificate of Registration. The Administrator finds that Judge Randall allowed Respondent ample time to refute the Government's evidence, and that Respondent has submitted no evidence or assertions to the contrary. Thus, there is no genuine issue of material fact concerning Respondent's lack of authorization to practice medicine in North Carolina or to handle controlled substances in that State.

The Administrator concurs with Judge Randall's finding that it is well settled that when there is no question of material fact involved, there is no need for plenary, administrative hearing. Congress did not intend for administrative agencies to perform meaningless tasks. See Michael G. Dolin, M.D., 65 FR 5661 (2000); Jesus R. Juarez, M.D., 62 FR 14945 (1997); see also Philip E. Kirk, M.D., 48 FR 32887 (1983), aff'd sub nom. Kirk v. Mullen, 749 F.2d 297 (6th Cir. 1984).

Accordingly, the Administrator of the Drug Enforcement Administration, pursuant to the authority vested in him by 21 U.S.C. 823 and 824 and 28 CFR 0.100(b) and 0.104, hereby orders that DEA Certificate of Registration AP1632810, issued to William Peterson, M.D., be, and it hereby is, revoked; and that any pending applications for the renewal or modification of said Certificate be denied. This order is effective November 19, 2001.

Dated: October 10, 2001.
Asa Hutchinson,
Administrator.

[FR Doc. 01-26181 Filed 10-17-01; 8:45 am]

BILLING CODE 4410-09-M